DEPARTMENT OF LABOR

Employment and Training Administration

[TA-W-37,167 and 167A]

GL&V/Dorr-Oliver, Inc., Hazleton, Pennsylvania and Milford, Connecticut; Amended Certification Regarding Eligibility To Apply for Worker Adjustment Assistance

In accordance with Section 223 of the Trade Act of 1974 (19 USC 2273) the Department of Labor issued a Notice of Certification Regarding Eligibility to Apply for Worker Adjustment Assistance on January 13, 2000, applicable to workers of GL&V/Dorr-Oliver, Inc., Hazleton, Pennsylvania. The notice was published in the Federal Register on February 4, 2000 (65 FR 5690).

At the request of the company, the Department reviewed the certification for workers of the subject firm. The company reports that worker separations occurred at the Milford, Connecticut location of GL&V/Dorr-Oliver, Inc. The Milford, Connecticut workers provide administrative functions, designing and customer services to support the production of filtration equipment at the Hazleton, Pennsylvania facility.

Based on these findings, the Department is amending the certification to include workers of GL&V/Dorr-Oliver, Inc., Milford, Connecticut.

The intent of the Department's certification is to include all workers of GL&V/Dorr-Oliver, Inc. who were adversely affected by increased imports of filtration equipment.

The amended notice applicable to TA-W-37,167 is hereby issued as follows:

All workers of GL&V/Dorr-Oliver, Inc., Hazleton, Pennsylvania (TA-W-37,167) and Milford, Connecticut (TA-W-37,167A) who became totally or partially separated from employment on or after November 23, 1998 through January 13, 2002 are eligible to apply for adjustment assistance under Section 223 of the Trade Act of 1974.

Signed at Washington, DC, this 24th day of March, 2000.
Grant D. Beale,
Program Manager, Division of Trade Adjustment Assistance.

[FR Doc. 00-8240 Filed 4-3-00; 8:45 am]

BILLING CODE 4510-30-M